CONSUMER PRODUCT SAFETY COMMISSION

16 CFR Chapter II

[Docket No. CPSC-2017-0044]

Clothing Storage Unit Tip Overs; Extension of Comment Period

AGENCY: Consumer Product Safety Commission.

ACTION: Advance notice of proposed rulemaking; extension of comment period.

SUMMARY: The Consumer Product Safety Commission (Commission or CPSC) published an advance notice of proposed rulemaking (ANPR) regarding clothing storage unit (CSU) tip overs in the Federal Register on November 30, 2017. The ANPR invited the public to submit written comments during a 60-day comment period, beginning on the ANPR publication date. In response to a request for an extension of the comment period, the Commission is extending the comment period by 75 days.

DATES: Submit comments by April 14, 2018.

ADDRESSES: You may submit comments, identified by Docket No. CPSC-2017-0044, electronically or in writing:

Electronic Submissions: You may submit electronic comments to the Federal eRulemaking Portal at: http://www.regulations.gov, by following the instructions for submitting comments. The Commission does not accept comments submitted by electronic mail (email), except through www.regulations.gov.

Written Submissions: You may submit written comments by mail, hand delivery, or courier to: Office of the Secretary, Consumer Product Safety Commission, Room 820, 4330 East West Highway, Bethesda, MD 20814; telephone (301) 504-7923.

Instructions: All submissions must include the agency name and docket number for this notice. All comments may be posted to: http://www.regulations.gov without change, including any personal identifiers, contact information, or other personal information. Do not submit confidential business information, trade secret information, or other sensitive or protected information that you do not want to be available to the public. If you submit such information, the Commission recommends that you do so by mail, hand delivery, or courier.

Docket: To read background documents or comments regarding this rulemaking, go to: http://www.regulations.gov, insert docket number CPSC-2017-0044 in the “Search” box, and follow the prompts.

SUPPLEMENTARY INFORMATION: On November 30, 2017, the Commission published an ANPR in the Federal Register, initiating rulemaking under the Consumer Product Safety Act (15 U.S.C. 2051-2089) and seeking comments and information regarding the risk of injury associated with CSU tip overs. 82 FR 56752. The ANPR provided a 60-day comment period, which will close on January 29, 2018. The American Home Furnishings Alliance (AHFA) has requested that the Commission extend the comment period an additional 75 days, given AHFA's pending Freedom of Information Act (5 U.S.C. 552) request for the raw data underlying the ANPR; the numerous subjects on which the ANPR seeks comments; and the time necessary to analyze the preliminary findings, complex issues, and substantial amount of data in the ANPR.

The Commission grants this request, extending the comment period for an additional 75 days, until April 14, 2018.

Alberta E. Mills,
Acting Secretary, Consumer Product Safety Commission.

[FR Doc. 2018-00552 Filed 1-16-18; 8:45 am]

BILLING CODE 6355-01-P